DEPARTMENT OF LABOR

Mine Safety and Health Administration

Proposed Information Collection Request Submitted for Public Comment and Recommendations; Mine Fan Maintenance Record

ACTION: Notice.

SUMMARY: The Department of Labor, as part of its continuing effort to reduce paperwork and respondent burden conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

Currently, the Mine Safety and Health Administration (MSHA) is soliciting comments concerning the extension of the information collection related to the 30 CFR Sections 56.1000 and 57.1000; Notification of Commencement of Operations and Closing of Mines.

DATES: Submit comments on or before April 8, 2002.

ADDRESSES: Send comments to Jane Tarr, Management Analyst, Administration and Management 1100 Wilson Boulevard, Room 2171, Arlington, VA 22209-3939. Commenters are encouraged to send their comments on computer disk, or via Internet E-mail to Tarr-Jane@Msha.Gov. Ms. Tarr can be reached at (202) 693-9824 (voice), or (202) 693-9801 (facsimile).

FOR FURTHER INFORMATION CONTACT: Jane Tarr, Management Analyst, Records Management Group, U.S. Department of Labor, mine Safety and Health Administration, Room 2171, 1100 Wilson Boulevard, Arlington, VA 22209-3939. Ms. Tarr can be reach at Tarr-Jane@Msha.Gov. (Internet E-mail), (202) 693-9824 (voice), or (202) 693-9801 (facsimile).

SUPPLEMENTARY INFORMATION:

I. Background

§ 57.8525 requires that the main ventilation fans for an underground mine be maintained either according to manufacturers' recommendations or a written periodic schedule adopted by the mine operators. If the operator produces a mine-specific fan maintenance schedule, it must be made available for review by an authorized Representative of the Secretary of Labor. The records assure compliance with the standard and may serve as a warning device for possible ventilation problems before they occur.

II. Desired Focus of Comments

MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the sue of appropriate automated, electronic, mechanical, or other technological collection techniques or other forms of information technology, e.g., permitting electronic submissions of responses.

A copy of the proposed information collection request can be obtained by contacting the employee listed in the For Further Information Contact section of this notice, or viewed on the Internet by accessing the MSHA home page (http://www.msha.gov) and then choosing “Statutory and Regulatory Information” and “Federal Register Documents.”

III. Current Action

§ 57.8525 requires that the main ventilation fans for an underground mine be maintained either according to manufacturers' recommendations or a written periodic schedule adopted by the mine operators. A regular fan maintenance schedule is necessary to assure this uninterrupted and vital supply of air. The maintenance is normally scheduled as recommended by the fan manufacturers. Regardless of regularity, based on the loads of individual fans, the records assure compliance with the standard and may serve as a warning device for possible ventilation problems before they occur.

Type of Review: Extension.

Agency: Mine Safety and Health Administration.

Title: Main Fan Maintenance Record.

OMB Number: 1219-0012.

Recordkeeping: If the operator produces a mine-specific fan maintenance schedule, it must be made available for review by an unthorized Representative of the Secretary of Labor.

Frequency: On Occasion.

Affected Public: Business or other for-profit.

Respondents: 8.

Estimated Time Per Respondent: 1.5 hours.

Total Burden Hours: 12 hours.

Total Burden Cost (capital/startup): $0.

Total Burden Cost (operating/maintaining): $0.

Comments submitted in response to this notice will be summarized and/or included in the request for Office of Management and budget approval of the information collection request; they will also become a matter of public record.

Dated at Arlington, Virginia, this third day of February, 2003
David L. Meyer,
Director, Office of Administration and Management.

[FR Doc. 03-3055 Filed 2-6-03; 8:45 am]

BILLING CODE 4510-43-M